DEPARTMENT OF DEFENSE

Department of the Army, Corps of Engineers

Intent To Prepare a Draft Integrated Environmental Impact Statement (EIS) for the New Jersey Back Bays (NJBB) Coastal Storm Risk Management (CSRM) Feasibility Study

AGENCY: Department of the Army, U.S. Army Corps of Engineers, DoD.

ACTION: Notice of intent.

SUMMARY: The action being taken by the U.S. Army Corps of Engineers (USACE) is an evaluation of CSRM problems, and an evaluation of alternative structural, non-structural, and natural and nature-based feature (NNBF) measures to address the CSRM problems in the coastal communities of the New Jersey Back Bays and Coastal Lakes in Monmouth, Ocean, Burlington, Atlantic, and Cape May Counties, New Jersey. The purpose of any consequent work would be to implement any one or a number of recommended plans and/or strategies that address CSRM problems evaluated in the feasibility study and integrated environmental impact statement.

ADDRESSES: U.S. Army Corps of Engineers, Philadelphia District, CENAP-PL-E, 100 Penn Square East, Wanamaker Building, Philadelphia, PA 19107-3390.

FOR FURTHER INFORMATION CONTACT: Questions, comments, and suggestions regarding the Draft Integrated EIS should be addressed to Mr. Steven D. Allen at the above address; Phone: (215) 656-6559; email: steven.d.allen@usace.army.mil.

SUPPLEMENTARY INFORMATION:

1. Proposed Action

a. The NJBB CSRM Feasibility Study area is one of 9 focus areas with vulnerable coastal populations identified in the North Atlantic Coast Comprehensive Study (NACCS). The NACCS was conducted in response to Public Law 113-2 and the Water Resource and Reform Development Act (WRRDA) of 2014 following the devastation in the wake of Hurricane Sandy, which greatly affected the study area in October of 2012. The purpose of the NJBB CSRM Feasibility Study is to identify comprehensive CSRM strategies to increase coastal resilience, and to reduce flooding risk from future storms and impacts of sea level change. The objective of the Study is to investigate CSRM problems and solutions to reduce damages from coastal flooding that affect population, critical infrastructure, critical facilities, property, and ecosystems.

b. The authority for the proposed project is the resolution adopted by the U.S. House of Representatives Committee on Public Works and Transportation and the U.S. Senate Committee on Environment and Public Works dated December 1987.

2. Alternatives

In addition to the no action alternative, the alternatives considered for CSRM will fall into structural, non-structural, and NNBF categories. The structural measures being evaluated for CSRM include measures that would provide barrier protection and/or protection to the bays perimeters, which include: inlet storm surge barriers, interior flood gates, road/rail elevation, levees, floodwalls, bulkheads, seawalls, revetments, beach restoration, breakwaters, storm system drainage improvements or combinations thereof. Non-structural elements under consideration include building retrofit (elevation and flood proofing), managed coastal retreat, emergency evacuation plans, early warning systems, public education education/risk communication, working with other Federal, state and local government agencies to incorporate National Flood Insurance Program improvements into the study recommendations, and combinations thereof. NNBF considerations include wetland restoration, living shorelines, green stormwater management, reefs, and submerged aquatic vegetation. NNBF features may be combined with other proposed CSRM elements.

3. Scoping

a. Scoping is conducted in accordance with Section 1501.7 of the National Environmental Policy Act, and is defined as an early and open process for determining the scope of issues to be addressed and for identifying the significant issues related to a proposed action. For the NJBB CSRM Feasibility Study, the scoping process is on-going and has involved preliminary coordination with 2 stakeholder meetings in June 2016, and the distribution of scoping letters to Federal, state, and local agencies, tribes and other non-government organizations. The general public and other interested parties and organizations were invited to participate by means of a public notice and a public workshop meeting held on December 1, 2016. Additional scoping meetings may be announced at major study milestone decision points. Agency and public input are being solicited throughout the study, and will help inform the identification of a Tentatively Selected Plan (TSP). The TSP milestone is expected to be reached in December 2018.

b. Significant issues and concerns that have been identified in addition to the premise of the CSRM study (flood risks associated with storms and sea level rise) include, but are not limited to the potential for impacts on aquatic biota, fisheries, intertidal habitat, shallow water habitat, endangered species, water quality, hydrodynamics, flood plain management, air quality, cultural resources, sustainability, and socio-economics.

c. The USACE is the lead Federal agency, and the New Jersey Department of Environmental Protection is the non-Federal sponsor. The USACE will be inviting key resource agencies with jurisdiction by law as a cooperating and/or participating agency in accordance with Section 1501.6 of Title 40 Code of Federal Regulations and Section 1005 of the Water Resources Reform and Development Act of 2014. Federal agencies interested in participating as a Cooperating Agency are requested to submit a letter of intent to Lieutenant Colonel Kristen Dahle, District Engineer, at U.S. Army Corps of Engineers, Philadelphia District, 100 Penn Square East, Wanamaker Building, Philadelphia, PA 19107-3390.

4. Availability

It is estimated that the Draft Integrated EIS and Feasibility Study will be made available to the public in January 2019.

Peter R. Blum,
Chief, Planning Division.

[FR Doc. 2017-27952 Filed 12-26-17; 8:45 am]

BILLING CODE 3720-58-P